SECURITIES AND EXCHANGE COMMISSION

Proposed Collection; Comment Request

Upon Written Request, Copies Available From: Securities and Exchange Commission, Office of Filings and Information Services, Washington, DC 20549

Extension:

Part 257, SEC File No. 270-252, OMB Control No. 3235-0306

Notice is hereby given that, pursuant to the Paperwork Reduction Act of 1995 (44 U.S.C. 3501 et seq.), the Securities and Exchange Commission (“Commission”) is soliciting comments on the collection of information summarized below. The Commission plans to submit this existing material to the Office of Management and Budget for extension and approval.

Part 257 [17 CFR part 257] under the Public Utility Holding Company Act of 1935, as amended (“Act”), 15 U.S.C. 79, et seq., generally mandates the preservation, and provides for the destruction, of books and records of registered public utility holding companies subject to rule 26 under the Act and service companies subject to rule 93. Part 257 prescribes which records must be maintained for regulatory purposes and which media methods may be used to maintain them. Further, it sets a schedule for destroying particular documents or classes of documents.

The Commission estimates that there is an associated recordkeeping burden of 29 hours in connection with the record preservation programs administered by registered holding companies under part 257 (29 recordkeepers × 1 hour = 29 burden hours). In addition to the costs associated with the burden hours, the annual non-labor cost associated with complying with part 257 is estimated at $2,000 for each registered holding company system. The total estimated annual non-labor recordkeeping burden is $58,000 (29 recordkeepers × $2,000 = $58,000).

Written comments are invited on: (1) Whether the proposed record maintenance and destruction requirements under part 257 under the Act are necessary for the proper performance of the functions of the agency, including whether the requirement will have practical utility; (2) the accuracy of the agency's estimate of the burden of the collection of information; (3) ways to enhance the quality, utility, and clarity of the information required to be maintained under Part 257; and (4) ways to minimize the burden of the collection of information on respondents that is required to be maintained under part 257, including through the use of automated collection techniques or other forms of information technology. Consideration will be given to comments and suggestions submitted in writing within 60 days of this publication.

Please direct your written comments to R. Corey Booth, Director/Chief Information Officer, Office of Information Technology, Securities and Exchange Commission, 450 5th Street, NW., Washington, DC 20549.

Dated: August 25, 2004.
J. Lynn Taylor,
Assistant Secretary.

[FR Doc. E4-2007 Filed 8-31-04; 8:45 am]

BILLING CODE 8010-01-P